DEPARTMENT OF ENERGY

Federal Energy Regulatory Commission

Notice of Effectiveness of Exempt Wholesale Generator Status

| Docket Nos.
PGR 2022 Lessee 8, LLC | EG23-220-000
Porter Solar, LLC | EG23-221-000
Orlando CoGen Limited, L.P | EG23-222-000
Vineyard Wind 1 LLC | EG23-223-000
Derby Fuel Cell, LLC | EG23-224-000
Chevelon Butte RE II LLC | EG23-225-000
Strauss Wind, LLC | EG23-226-000
Arica Solar, LLC | EG23-227-000
Redonda PV LLC | EG23-228-000
Victory Pass I, LLC | EG23-229-000
Misenheimer Solar LLC | EG23-230-000
Downeast Wind, LLC | EG23-231-000
Great Cove Solar LLC | EG23-232-000
Great Cove Solar II LLC | EG23-233-000
Tunica Windpower LLC | EG23-234-000
Platteview Solar, LLC | EG23-235-000
Cavalier Solar A2, LLC | EG23-236-000
McFarland Solar B, LLC | EG23-237-000
Copperhead Solar, LLC | EG23-238-000
7V Solar Ranch, LLC | EG23-239-000
Crystal Hill Solar, LLC | EG23-240-000
EnerSmart Los Coches BESS LLC | EG23-241-000
Eleven Mile Solar Center, LLC | EG23-242-000

Take notice that during the month of September 2023, the status of the above-captioned entities as Exempt Wholesale Generators became effective by operation of the Commission's regulations. 18 CFR 366.7(a) (2022).

Dated: October 10, 2023.
Debbie-Anne A. Reese,
Deputy Secretary.

[FR Doc. 2023-22768 Filed 10-13-23; 8:45 am]

BILLING CODE 6717-01-P